FEDERAL TRADE COMMISSION

Revised Jurisdictional Thresholds for Section 7A of the Clayton Act

AGENCY: Federal Trade Commission

ACTION: Notice

SUMMARY: The Federal Trade Commission announces the revised thresholds for the Hart-Scott-Rodino Antitrust Improvements Act of 1976 required by the 2000 amendment of Section 7A of the Clayton Act. Section 7A of the Clayton Act, 15 U.S.C. 18a, as added by the Hart-Scott-Rodino Antitrust Improvements Act of 1976, Pub. L. 94-435, 90 Stat. 1390 (“the Act”), requires all persons contemplating certain mergers or acquisitions, which meet or exceed the jurisdictional thresholds in the Act, to file notification with the Commission and the Assistant Attorney General and to wait a designated period of time before consummating such transactions. Section 7A(a)(2) requires the Federal Trade Commission to revise those thresholds annually, based on the change in gross national product, in accordance with Section 8(a)(5). The new thresholds, which take effect 30 days after publication in the Federal Register, are as follows:

SUBSECTION OF 7A | ORIGINAL THRESHOLD | ADJUSTED THRESHOLD
7A(a)(2)(A) | $200 million | $252.3 million
7A(a)(2)(B)(i) | $50 million | $63.1 million
7A(a)(2)(B)(i) | $200 million | $252.3 million
7A(a)(2)(B)(ii)(I) | $10 million | $12.6 million
7A(a)(2)(B)(ii)(I) | $100 million | $126.2 million
7A(a)(2)(B)(ii)(II) | $10 million | $12.6 million
7A(a)(2)(B)(ii)(II) | $100 million | $126.2 million
7A(a)(2)(B)(ii)(III) | $100 million | $126.2 million
7A(a)(2)(B)(ii)(III) | $10 million | $12.6 million
Section 7A note: Assessment and Collection of Filing Fees¹ (3)(b)(1) | $100 million | $126.2 million
Section 7A note: Assessment and Collection of Filing Fees (3)(b)(2) | $100 million | $126.2 million
Section 7A note: Assessment and Collection of Filing Fees (3)(b)(2) | $500 million | $630.8 million
Section 7A note: Assessment and Collection of Filing Fees (3)(b)(3) | $500 million | $630.8 million
¹ Pub. L. 106-553, Sec. 630(b) amended Sec. 18a note.

Any reference to these thresholds and related thresholds and limitation values in the HSR rules (16 C.F.R. Parts 801-803) and the Antitrust Improvements Act Notification and Report Form and its Instructions will also be adjusted, where indicated by the term “(as adjusted)”, as follows:

ORIGINAL THRESHOLD | ADJUSTED THRESHOLD
$10 million | $12.6 million
$50 million | $63.1 million
$100 million | $126.2 million
$110 million | $138.8 million
$200 million | $252.3 million
$500 million | $630.8 million
$1 billion | $1,261.5 million

EFFECTIVE DATE: February 28, 2008.

FOR FURTHER INFORMATION CONTACT: B. Michael Verne, Bureau of Competition, Premerger Notification Office (202) 326-3100.

Authority: 16 U.S.C. § 7A.

By direction of the Commission.

Donald S. Clark
Secretary

[FR Doc. E8-1486 Filed 1-28-08: 8:45 am]

[BILLING CODE 6750-01-S]